DEPARTMENT OF ENERGY

Federal Energy Regulatory Commission

Combined Notice of Filings #2

Take notice that the Commission received the following electric corporate filings:

Docket Numbers: EC12-17-000.

Applicants: Niagara Mohawk Power Corporation.

Description: Application for Commission Authorization under Section 203 of the Federal Power Act, Request for Expedited Action and Request for Waivers of Niagara Mohawk Power Corporation.

Filed Date: 10/31/2011.

Accession Number: 20111031-5426.

Comment Date: 5 p.m. Eastern Time on Monday, November 21, 2011.

Docket Numbers: EC12-18-000; ER12-304-000.

Applicants: San Diego Gas & Electric Company, NaturEner Rim Rock Wind Energy, LLC.

Description: Application of San Diego Gas & Electric Company and NaturEner Rim Rock Wind Energy, LLC for Authorizations under Sections 203 and 205 of the Federal Power Act et al.

Filed Date: 10/31/2011.

Accession Number: 20111031-5432.

Comment Date: 5 p.m. Eastern Time on Monday, November 21, 2011.

Take notice that the Commission received the following electric rate filings:

Docket Numbers: ER11-4298-000.

Applicants: ITC Midwest LLC.

Description: ITC Midwest LLC submits tariff filing per 35.19a(b): Filing of a Refund Report to be effective N/A.

Filed Date: 11/01/2011.

Accession Number: 20111101-5140.

Comment Date: 5 p.m. Eastern Time on Tuesday, November 22, 2011.

Docket Numbers: ER12-299-000.

Applicants: Startrans IO, LLC.

Description: Startrans IO, LLC submits tariff filing per 35.13(a)(2)(iii: Startrans IO 2012 update to the TRBAA in Appendix I to be effective 1/1/2012.

Filed Date: 11/01/2011.

Accession Number: 20111101-5073.

Comment Date: 5 p.m. Eastern Time on Tuesday, November 22, 2011.

Docket Numbers: ER12-300-000.

Applicants: Covanta Fairfax, Inc.

Description: Covanta Fairfax, Inc. submits tariff filing per 35.1: Power Purchase and Operating Agreement to be effective 11/1/2011.

Filed Date: 11/01/2011.

Accession Number: 20111101-5081.

Comment Date: 5 p.m. Eastern Time on Tuesday, November 22, 2011.

Docket Numbers: ER12-301-000.

Applicants: Southern California Edison Company.

Description: Southern California Edison Company submits tariff filing per 35.13(a)(2)(iii: Amendment to Extend Terms of Eldorado Co-Tenancy and Communication Agreements to be effective 1/1/2012.

Filed Date: 11/01/2011.

Accession Number: 20111101-5093.

Comment Date: 5 p.m. Eastern Time on Tuesday, November 22, 2011.

Docket Numbers: ER12-302-000.

Applicants: Alabama Power Company.

Description: Alabama Power Company submits tariff filing per 35.13(a)(2)(i): MUN-1 2012 Small Rate Increase to be effective 1/1/2012.

Filed Date: 11/01/2011.

Accession Number: 20111101-5096.

Comment Date: 5 p.m. Eastern Time on Tuesday, November 22, 2011.

Docket Numbers: ER12-303-000.

Applicants: Virginia Electric and Power Company, Dominion Marketing Affiliates.

Description: Request Of Virginia Electric And Power Company And Its Market-Regulated Power Sales Affiliates For Waivers Of Certain Affiliate Restrictions Requirement.

Filed Date: 11/01/2011.

Accession Number: 20111101-5106.

Comment Date: 5 p.m. Eastern Time on Tuesday, November 22, 2011.

Take notice that the Commission received the following electric securities filings:

Docket Numbers: ES12-6-000.

Applicants: AEP Generating Company.

Description: Application of AEP Generating C to Issue Securities Under Section 204 of the Federal Power Act.

Filed Date: 11/01/2011.

Accession Number: 20111101-5114.

Comment Date: 5 p.m. Eastern Time on Tuesday, November 22, 2011.

Take notice that the Commission received the following land acquisition reports:

Docket Numbers: LA11-3-000.

Applicants: Bluegrass Generation Company, LLC, DeSoto County Generating Company, LLC, Las Vegas Power Company, LLC, LS Power Marketing, LLC, LSP Safe Harbor Holdings, LLC, LSP University Park, LLC, Renaissance Power, LLC, Riverside Generating Company, LLC, Rocky Road Power, LLC, Tilton Energy LLC, University Park Energy, LLC, Wallingford Energy LLC

Description: Quarterly Land Acquisition Report of Bluegrass Generation Company, LLC, et al.

Filed Date: 10/31/2011.

Accession Number: 20111031-5429.

Comment Date: 5 p.m. Eastern Time on Monday, November 21, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 01, 2011.
Nathaniel J. Davis, Sr.,
Deputy Secretary.

[FR Doc. 2011-28874 Filed 11-7-11; 8:45 am]

BILLING CODE 6717-01-P